DEPARTMENT OF HOMELAND SECURITY

Federal Emergency Management Agency

[Docket ID FEMA-2021-0002; Internal Agency Docket No. FEMA-B-2153]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado:
Adams | Unincorporated areas of Adams County (20-08-0723P). | The Honorable Eva J. Henry, Chair, Adams County Board of Commissioners, 4430 South Adams County Parkway, Suite C5000A, Brighton, CO 80601. | Adams County Community and Economic Development, 4430 Adams County Parkway, 1st Floor, Suite W2000, Brighton, CO 80601. | https://msc.fema.gov/portal/advanceSearch. | Oct. 28, 2021 | 080001
Boulder | City of Longmont (20-08-0847P). | The Honorable Brian Bagley, Mayor, City of Longmont, 350 Kimbark Street, Longmont, CO 80501. | Development Services Center, 385 Kimbark Street, Longmont, CO 80501. | https://msc.fema.gov/portal/advanceSearch. | Oct. 25, 2021 | 080027
El Paso | City of Colorado Springs (20-08-0822P). | The Honorable John Suthers, Mayor, City of Colorado Springs, 30 South Nevada Avenue, Suite 601, Colorado Springs, CO 80903. | Pikes Peak Regional Development Center, 2880 International Circle, Colorado Springs, CO 80910. | https://msc.fema.gov/portal/advanceSearch. | Oct. 27, 2021 | 080060
Weld | Town of Windsor (21-08-0116P). | The Honorable Paul Rennemeyer, Mayor, Town of Windsor, 301 Walnut Street, Windsor, CO 80550. | Town Hall, 301 Walnut Street, Windsor, CO 80550. | https://msc.fema.gov/portal/advanceSearch. | Nov. 1, 2021 | 080264
Weld | Unincorporated areas of Weld County (21-08-0116P). | The Honorable Steve Moreno, Chairman, Weld County Board of Commissioners, P.O. Box 758, Greeley, CO 80631. | Weld County Administration Building, 1150 O Street, Greeley, CO 80631. | https://msc.fema.gov/portal/advanceSearch. | Nov. 1, 2021 | 080266
Florida:
Alachua | Unincorporated areas of Alachua County (21-04-0749P). | Ms. Michelle L. Lieberman, Alachua County Manager, 12 Southeast 1st Street, Gainesville, FL 32601. | Alachua County Public Works Department, 5620 Northwest 120th Lane, Gainesville, FL 32653. | https://msc.fema.gov/portal/advanceSearch. | Oct. 20, 2021 | 120001
Lee | Unincorporated areas of Lee County (21-04-1477P). | Mr. Roger Desjarlais, Lee County Manager, 2115 2nd Street, Fort Myers, FL 33901. | Lee County Building Department, 1500 Monroe Street, Fort Myers, FL 33901. | https://msc.fema.gov/portal/advanceSearch. | Oct. 20, 2021 | 125124
Lee | Village of Estero (21-04-1477P). | Mr. Steven R. Sarkozy, Village of Estero Manager, 9401 Corkscrew Palms Circle, Estero, FL 33928. | Village Hall, 9401 Corkscrew Palms Circle, Estero, FL 33928. | https://msc.fema.gov/portal/advanceSearch. | Oct. 20, 2021 | 120260
Monroe | Village of Islamorada (21-04-2470P). | The Honorable Buddy Pinder, Mayor, Village of Islamorada, 86800 Overseas Highway, Islamorada, FL 33036. | Building Department, 86800 Overseas Highway, Islamorada, FL 33036. | https://msc.fema.gov/portal/advanceSearch. | Oct. 18, 2021 | 120424
Palm Beach | Unincorporated areas of Palm Beach County (20-04-0988P). | Ms. Verdenia C. Baker, Palm Beach County Administrator, 301 North Olive Avenue, Suite 1101, West Palm Beach, FL 33401. | Palm Beach County Planning, Zoning and Building Department, 2300 North Jog Road, Room 1E-17, West Palm Beach, FL 33411. | https://msc.fema.gov/portal/advanceSearch. | Oct. 18, 2021 | 120192
Sarasota | Unincorporated areas of Sarasota County (21-04-1410P). | The Honorable Alan Maio, Chairman, Sarasota County Board of Commissioners, 1660 Ringling Boulevard, Sarasota, FL 34236. | Sarasota County Planning and Development Services Department, 1001 Sarasota Center Boulevard, Sarasota, FL 34240. | https://msc.fema.gov/portal/advanceSearch. | Oct. 13, 2021 | 125144
Sumter | City of Wildwood (20-04-3503P). | The Honorable Ed Wolf, Mayor, City of Wildwood, 100 North Main Street, Wildwood, FL 34785. | Public Works Department, 743 Huey Street, Wildwood, FL 34785. | https://msc.fema.gov/portal/advanceSearch. | Oct. 15, 2021 | 120299
Sumter | City of Wildwood (20-04-3653P). | The Honorable Ed Wolf, Mayor, City of Wildwood, 100 North Main Street, Wildwood, FL 34785. | Public Works Department, 743 Huey Street, Wildwood, FL 34785. | https://msc.fema.gov/portal/advanceSearch. | Oct. 15, 2021 | 120299
Sumter | Unincorporated areas of Sumter County (20-04-3503P). | The Honorable Garry Breeden, Chairman, Sumter County Board of Commissioners, 7375 Powell Road, Wildwood, FL 34785. | Sumter County Planning Department, 7375 Powell Road, Suite 115, Wildwood, FL 34785. | https://msc.fema.gov/portal/advanceSearch. | Oct. 15, 2021 | 120296
Sumter | Unincorporated areas of Sumter County (20-04-3653P). | The Honorable Garry Breeden, Chairman, Sumter County Board of Commissioners, 7375 Powell Road, Wildwood, FL 34785. | Sumter County Planning Department, 7375 Powell Road, Suite 115, Wildwood, FL 34785. | https://msc.fema.gov/portal/advanceSearch. | Oct. 15, 2021 | 120296
Kentucky: Hardin | City of Vine Grove (21-04-0296P). | The Honorable Pam Ogden, Mayor, City of Vine Grove, 300 West Main Street, Vine Grove, KY 40175. | City Hall, 300 West Main Street, Vine Grove, KY 40175. | https://msc.fema.gov/portal/advanceSearch. | Oct. 25, 2021 | 210096
Montana:
Gallatin | City of Bozeman (20-08-0733P). | Mr. Jeff Mihelich, City of Bozeman Manager, 121 North Rouse Avenue, Bozeman, MT 59715. | City Hall, 20 East Olive Street, Bozeman, MT 59715. | https://msc.fema.gov/portal/advanceSearch. | Oct. 6, 2021 | 300028
Gallatin | Unincorporated areas of Gallatin County (20-08-0733P). | The Honorable Scott MacFarlane, Chairman, Gallatin County Commission, 311 West Main Street, Room 306, Bozeman, MT 59715. | Gallatin County Department of Planning and Community Development, 311 West Main Street, Room 108, Bozeman, MT 59715. | https://msc.fema.gov/portal/advanceSearch. | Oct. 6, 2021 | 300027
South Carolina: Horry | City of North Myrtle Beach (21-04-0914P). | Mr. Michael Mahaney, Manager, City of North Myrtle Beach, 1018 2nd Avenue South, North Myrtle Beach, SC 29582. | Planning and Development Department, 1018 2nd Avenue South, North Myrtle Beach, SC 29582. | https://msc.fema.gov/portal/advanceSearch. | Oct. 27, 2021 | 450110
Texas:
Collin | City of McKinney (21-06-0619P). | The Honorable George Fuller, Mayor, City of McKinney, P.O. Box 517, McKinney, TX 75070. | Engineering Department, 221 North Tennessee Street, McKinney, TX 75069. | https://msc.fema.gov/portal/advanceSearch. | Oct. 12, 2021 | 480135
Collin | Unincorporated areas of Collin County (21-06-0619P). | The Honorable Chris Hill, Collin County Judge, 2300 Bloomdale Road, Suite 4192, McKinney, TX 75071. | Collin County Engineering Department, 4690 Community Avenue, Suite 200, McKinney, TX 75071. | https://msc.fema.gov/portal/advanceSearch. | Oct. 12, 2021 | 480130
Dallas | City of Rowlett (21-06-0711P). | The Honorable TammyDana-Bashian Mayor, City of Rowlett, 4000 Main Street, Rowlett, TX 75088. | Community Development Department, 5702 Rowlett Road, Rowlett, TX 75089. | https://msc.fema.gov/portal/advanceSearch. | Oct. 15, 2021 | 480185
El Paso | City of El Paso (21-06-0100P). | The Honorable Oscar Leeser, Mayor, City of El Paso, 300 North Campbell Street, El Paso, TX 79901. | Flood Mitigation and Land Development Department, 801 Texas Avenue, El Paso, TX 79901. | https://msc.fema.gov/portal/advanceSearch. | Oct. 8, 2021 | 480214
El Paso | City of Socorro (21-06-0100P). | The Honorable Ivy Avalos, Mayor, City of Socorro, 124 South Horizon Boulevard, Socorro, TX 79927. | Planning and Zoning Department, 860 North Rio Vista Road, Socorro, TX 79927. | https://msc.fema.gov/portal/advanceSearch. | Oct. 8, 2021 | 481658
Montgomery | Unincorporated areas of Montgomery County (20-06-1594P). | The Honorable Mark J. Keough, Montgomery County Judge, 501 North Thompson Street, Suite 401, Conroe, TX 77301. | Montgomery County Commissioners Office, 501 North Thompson Street, Suite 103, Conroe, TX 77301. | https://msc.fema.gov/portal/advanceSearch. | Oct. 8, 2021 | 480483
Rockwall | City of Fate (21-06-0525P). | The Honorable David Billings, Mayor, City of Fate, 1900 C.D. Boren Parkway, Fate, TX 75087. | Planning and Development Department, 1900 C.D. Boren Parkway, Fate, TX 75087. | https://msc.fema.gov/portal/advanceSearch. | Nov. 1, 2021 | 480544
Williamson | City of Georgetown (21-06-0115P). | Mr. David Morgan, Manager, City of Georgetown, P.O. Box 409, Georgetown, TX 78626. | Mapping and GIS Department, 300-1 Industrial Avenue, Georgetown, TX 78626. | https://msc.fema.gov/portal/advanceSearch. | Oct. 14, 2021 | 480668
Williamson | Unincorporated areas of Williamson County (21-06-0115P). | The Honorable Bill Gravell, Jr., Williamson County Judge, 710 South Main Street, Suite 101, Georgetown, TX 78626. | Williamson County Engineering Department, 3151 Southeast Inner Loop, Georgetown, TX 78626. | https://msc.fema.gov/portal/advanceSearch. | Oct. 14, 2021 | 481079
Utah: Washington | City of Hurricane (20-08-1034P). | The Honorable John W. Bramall, Mayor, City of Hurricane, 147 North 870 West, Hurricane, UT 84737. | Engineering Department, 147 North 870 West, Hurricane, UT 84737. | https://msc.fema.gov/portal/advanceSearch. | Oct. 25, 2021 | 490172

[FR Doc. 2021-16437 Filed 7-30-21; 8:45 am]

BILLING CODE 9110-12-P